DEPARTMENT OF DEFENSE

Department of the Army

Board of Visitors, United States Military Academy (USMA)

AGENCY: Department of the Army, DoD.

ACTION: Notice of committee meeting.

SUMMARY: Under the provisions of the Federal Advisory Committee Act of 1972, the Government in the Sunshine Act of 1976, the Department of Defense announces that the following Federal advisory committee meeting will take place.

DATES: The meeting will be held on Friday, November 22, 2024, time: 9 a.m.-11:30 a.m. Members of the public wishing to attend the meeting will be required to show a DoD government photo ID or submit to and pass a background check prior to entering West Point in order to gain access to the meeting location.

ADDRESSES: The meeting will be held in the Haig Room, Jefferson Hall, 758 Cullum Road, West Point, New York 10996.

FOR FURTHER INFORMATION CONTACT: Mr. David Nagle, the Designated Federal Officer for the committee, in writing at: USMA Secretary of the Geneal Staff, ATTN: David Nagle, 646 Swift Road, West Point, NY 10996; by email at: david.nagle@westpoint.edu or BoV@westpoint.edu; or by telephone at (845) 938-3716.

SUPPLEMENTARY INFORMATION: Due to circumstances beyond the control of the Designated Federal Officer and the Department of Defense, the United States Military Academy Board of Visitors was unable to provide public notification required by 41 CFR 102-3.150(a) concerning its November 22, 2024 meeting. Accordingly, the Advisory Committee Management Officer for the Department of Defense, pursuant to 41 CFR 102-3.150(b), waives the 15-calendar day notification requirement. The committee meeting is being held under the provisions of the Federal Advisory Committee Act of 1972 (5 U.S.C. appendix, as amended), the Government in the Sunshine Act of 1976 (5 U.S.C. 552b, as amended), and 41 CFR 102-3.150. The USMA BoV provides independent advice and recommendations to the President of the United States on matters related to morale, discipline, curriculum, instruction, physical equipment, fiscal affairs, academic methods, and any other matters relating to the Academy that the Board decides to consider.

Purpose of the Meeting: This is the 2024 Annual Meeting of the USMA BoV. Members of the Board will be provided updates on Academy issues. Agenda: Introduction; Board Business: Approve Minutes from the July 2024 BoV Meeting, select Spring 2025 meeting date, Open Discussion; Superintendent Remarks; Line of Effort (LOE) 1: Develop Leaders of Character Who Live Honorably, Lead Honorably, and Demonstrate Excellence; LOE 4: Continuously Transform Toward Preeminence; LOE 5: Strengthen Partnerships.

Public's Accessibility to the Meeting: Pursuant to 5 U.S.C. 552b and 41 CFR 102-3.140 through 102-3.165 and subject to the availability of space, this meeting is open to the public. Seating is on a first to arrive basis. Attendees are requested to submit their name, affiliation, and daytime phone number seven business days prior to the meeting to Mr. Nagle, via electronic mail, the preferred mode of submission, at the address listed in the FOR FURTHER INFORMATION CONTACT section. Pursuant to 41 CFR 102-3.140d, the committee is not obligated to allow a member of the public to speak or otherwise address the committee during the meeting, and members of the public attending the committee meeting will not be permitted to present questions from the floor or speak to any issue under consideration by the committee. Because the committee meeting will be held in a Federal Government facility on a military post, security screening is required. A DoD government photo ID is required to enter post. Without a DoD ID, members of the public must first go to the Visitor Control Center in the Visitor Center and undergo a background check before being allowed access to the installation. Members of the public then need to park in Buffalo Soldier Field parking lot and ride the north-bound Central Post Area (CPA) shuttle bus to Thayer Road, get off at the Thayer Road Extension and walk up the road to the Guard Station; a member of the USMA staff will meet members of the public wishing to attend the meeting at 8:30am and escort them to the meeting location. Please note that all vehicles and persons entering the installation are subject to search and/or an identification check. Any person or vehicle refusing to be searched will be denied access to the installation. Members of the public should allow at least an hour for security checks and the shuttle ride. The United States Military Academy, Jefferson Hall, is fully handicap accessible. Wheelchair access is available at the south entrance of the building. For additional information about public access procedures, contact Mr. Nagle, the committee's Designated Federal Officer, at the email address or telephone number listed in the FOR FURTHER INFORMATION CONTACT section.

Written Comments or Statements: Pursuant to 41 CFR 102-3.105(j) and 102-3.140 and section 10(a)(3) of the Federal Advisory Committee Act, the public or interested organizations may submit written comments or statements to the committee, in response to the stated agenda of the open meeting or in regard to the committee's mission in general. Written comments or statements should be submitted to Mr. Nagle, the committee Designated Federal Officer, via electronic mail, the preferred mode of submission, at the address listed in the FOR FURTHER INFORMATION CONTACT section. Each page of the comment or statement must include the author's name, title or affiliation, address, and daytime phone number and must be received by the Designated Federal Official at least seven business days prior to the meeting to be considered by the committee. The Designated Federal Official will review all timely submitted written comments or statements with the committee Chairperson and ensure the comments are provided to all members of the committee before the meeting. Written comments or statements received after this date may not be provided to the committee until its next meeting.

Pursuant to 41 CFR 102-3.140d, the committee is not obligated to allow a member of the public to speak or otherwise address the committee during the meeting. However, the committee Designated Federal Official and Chairperson may choose to invite certain submitters to present their comments verbally during the open portion of this meeting or at a future meeting. The Designated Federal Officer, in consultation with the committee Chairperson, may allot a specific amount of time for submitters to present their comments verbally.

James W. Satterwhite Jr.,
Army Federal Register Liaison Officer.

[FR Doc. 2024-27423 Filed 11-21-24; 8:45 am]

BILLING CODE 6001-FR-P